DEPARTMENT OF COMMERCE

International Trade Administration

(A-823-812)

Changed Circumstances Review of the Antidumping Duty Order on Carbon and Certain Alloy Steel Wire Rod from Ukraine.

AGENCY: Import Administration, International Trade Administration, Department of Commerce.

DATE: August 11, 2005.

ACTION: Extension of Rebuttal Comment Period

SUMMARY: On April 26, 2005, in response to a request from the Government of Ukraine, the Department of Commerce published a notice in the Federal Register initiating a changed circumstances review in order to determine whether Ukraine should continue to be treated as a non-market economy country for purposes of the U.S. antidumping duty law (70 FR 21396). The Department has decided to extend the rebuttal comment period by twenty-one days, pursuant to 19 CFR 351.302(b), making the new deadline for the submission of public comment August 31, 2005. Written comments (original and six copies) should be sent to Joseph A. Spetrini, Acting Assistant Secretary for Import Administration, U.S. Department of Commerce, Central Records Unit, Room 1870, 14th Street and Constitution Avenue NW, Washington, DC 20230. All parties submitting comments must comply with the Department's regulations regarding the filing of documents. See 19 CFR 351.303.

FOR FURTHER INFORMATION CONTACT: Lawrence Norton or Shauna Lee-Alaia, Office of Policy, Import Administration, U.S. Department of Commerce, 14th Street and Constitution Avenue, NW, Washington DC, 20230, 202-482-1579 or 202-482-2793, respectively.

SUPPLEMENTARY INFORMATION:

Comments--Deadline, Format, and Number of Copies

The Department is extending the deadline for submission of rebuttal comments by twenty-one days, making the new deadline August 31, 2005. Each person submitting comments should include his or her name and address, and give reasons for all rebuttals. To facilitate their consideration by the Department, comments should be submitted in the following format: (1) begin each comment on a separate page; (2) concisely state the issue identified and discussed in the comment and include any supporting documentation in exhibits or appendices; (3) provide a brief summary of the comment (a maximum of three sentences) and label this section “summary of comment”; (4) provide an index or table of contents; and (5) include the case number, A-823-812, in the top right hand corner of the submission.

Persons wishing to comment should file a signed original and six copies of each set of comments by the dates specified above. All comments responding to this notice will be a matter of public record and will be available for public inspection and copying at Import Administration's Central Records Unit, Room B-099, between the hours of 8:30 a.m. and 5 p.m. on business days. The Department requires that comments be submitted in written form. The Department recommends submission of comments in electronic media, preferably in Portable Document Format (PDF), to accompany the required paper copies. Comments filed in electronic form should be submitted on CD-ROM as comments submitted on diskettes are likely to be damaged by postal radiation treatment.

Comments received in electronic form will be made available to the public on the Internet at the Import Administration Web site at the following address: http://ia.ita.doc.gov/.

Any questions concerning file formatting, document conversion, access on the Internet, or other electronic filing issues should be addressed to Andrew Lee Beller, Import Administration Webmaster, at (202) 482-0866, email: webmaster-support@ita.doc.gov.

Dated: August 5, 2005.
Joseph A. Spetrini,
Acting Assistant Secretary for Import Administration.

[FR Doc. E5-4355 Filed 8-10-05; 8:45 am]

BILLING CODE 3510-DS-S